DEPARTMENT OF COMMERCE

Foreign-Trade Zones Board

[Docket 47-2004]

Foreign-Trade 243—Victorville, CA; Application for Expansion

An application has been submitted to the Foreign-Trade Zones (FTZ) Board (the Board) by the Southern California Logistics Airport Authority, grantee of Foreign-Trade Zone 243, requesting authority to expand its zone to include additional sites in the Victorville area, within and adjacent to the Victorville Customs user fee airport and the Los Angeles-Long Beach Customs port of entry. The application was submitted pursuant to the provisions of the Foreign-Trade Zones Act, as amended (19 U.S.C. 81a-81u), and the regulations of the Board (15 CFR Part 400). It was formally filed on October 29, 2004.

FTZ 243 was approved on July 26, 2000 (Board Order 1097, 65 FR 47953, 8/4/00). The general-purpose zone project currently consists of the following site: Site 1 (1,954 acres) consists of: Parcel 1 (1,943 acres)—Southern California Logistics Airport complex located at 18374 Phantom, Victorville; Parcel 2 (7 acres, 287,060 sq. ft.)—located at 19317 Arenth Avenue, Industry (expires 1/31/05); Parcel 3 (1 acre, 35,283 sq. ft.)—located at 13731 Proctor Avenue, Industry (expires 1/31/05); and, Parcel 4 (3 acres, 156,816 sq. ft.)—located at 3525 Walnut Avenue, Chino (expires 1/31/05).

The applicant is now requesting authority for a major expansion of the zone as described below. The proposal requests authority to expand the zone to include nine additional sites in the cities of Industry, Whittier, Chino and Rialto, California.

Proposed Site 2 (7 acres)—Golden State Foods warehouse located at 19317 Arenth Avenue, Industry (this site will include Site 1-Parcel 2 on a permanent basis);

Proposed Site 3 (4 acres)—Proctor Warehouse located at 13731 Proctor Avenue, Industry (this site will include Site 1-Parcel 3 on a permanent basis);

Proposed Site 4 (179 acres, 13 parcels)—located within the 186-acre Fairway Business Center in the City of Industry;

Proposed Site 5 (318 acres)—Grand Crossing Industrial Park located at the intersection of the Pomona (60) and Orange (57) Freeways in the City of Industry;

Proposed Site 6 (70 acres)—Gateway Pointe Industrial Park located at the intersection of the Pomona (60) and San Gabriel River (605) Freeways in the City of Whittier;

Proposed Site 7 (4 acres)—FBC Industries warehouse facility located at 3525 Walnut Avenue, Chino (this site will include Site 1-Parcel 4 on a permanent basis);

Proposed Site 8 (14 acres, 2 parcels)—Schaefer Warehouse (Parcel 1, 7 acres) located at 5125 Schaefer Avenue and Pacific Warehouse (Parcel 2, 7 acres) located at 5085 Schaefer Avenue, Chino;

Proposed Site 9 (8 acres)—Eucalyptus Warehouse located at 4340 Eucalyptus Avenue, Chino; and,

Proposed Site 10 (91 acres)—located within the 138-acre ProLogis Park I-210 at the Alder Interchange and Interstate 210 extension in the City of Rialto.

The applicant is also requesting that 11 acres at Site 1 (Southern California Logistics Airport) be restored to zone status and that Parcels 2, 3 and 4 be granted zone status on a permanent basis as noted above. (A minor boundary modification was approved in December 2003 (A(27f)-60-2003), removing 11 acres from Site 1 (Southern California Logistics Airport) to establish the temporary parcels.) No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the addresses below:

1. Submissions via Express/Package Delivery Services: Foreign-Trade Zones Board, U.S. Department of Commerce, Franklin Court Building—Suite 4100W, 1099 14th Street NW., Washington, DC 20005; or

2. Submissions via the U.S. Postal Service: Foreign-Trade Zones Board, U.S. Department of Commerce, FCB—Suite 4100W, 1401 Constitution Avenue, NW., Washington, DC 20230.

The closing period for their receipt is January 14, 2005. Rebuttal comments in response to material submitted during the foregoing period may be submitted during the subsequent 15-day period (to January 31, 2005).

A copy of the application and accompanying exhibits will be available for public inspection at the Office of the Foreign-Trade Zones Board's Executive Secretary at the first address listed above, and at the U.S. Department of Commerce, Export Assistance Center, 2940 Inland Empire Boulevard, Suite 121, Ontario, CA 91764.

Dated: November 4, 2004.
Dennis Puccinelli,
Executive Secretary.

[FR Doc. 04-25294 Filed 11-12-04; 8:45 am]

BILLING CODE 3510-D5-P